DEPARTMENT OF COMMERCE

National Oceanic and Atmospheric Administration

50 CFR Parts 600 and 648

[Docket No. 010220043-1043-01; I.D. 120400D]

RIN 0648-AN65

Foreign Fishing and Fisheries of the Northeastern United States; Proposed 2001 Specifications for the Atlantic Herring Fishery and Foreign Fishing Restrictions

AGENCY: National Marine Fisheries Service (NMFS), National Oceanic and Atmospheric Administration (NOAA), Commerce.

ACTION: Proposed 2001 specifications for the Atlantic herring fishery; request for comments.

SUMMARY: NMFS proposes specifications for the 2001 Atlantic herring fishery. The intent of the specifications is to conserve and manage the herring resource and provide for sustainable fisheries, and to comply with the provisions in the Fishery Management Plan for Atlantic Herring (FMP), which require annual specifications for the fishery.

DATES: Comments must be received no later than 5 p.m., Eastern Standard Time, on April 4, 2001.

ADDRESSES: Copies of supporting documents, including the Environmental Assessment, Regulatory Impact Review, Initial Regulatory Flexibility Analysis (EA/RIR/IRFA), and the Essential Fish Habitat Assessment are available from Patricia A. Kurkul, Regional Administrator, Northeast Region, National Marine Fisheries Service, One Blackburn Drive, Gloucester, MA 01930-2298. The EA/RIR/IRFA is accessible via the Internet at http:/www.nero.gov/ro/doc/nr.htm.

Written comments on the proposed specifications should be sent to the Regional Administrator at the above address. Mark on the outside of the envelope: “Comments-2001 Herring Specifications.” Send comments on any ambiguity or unnecessary complexity arising from the language used in these proposed specifications to the Regional Administrator. Comments may also be sent via facsimile (fax) to (978) 281-9371. Comments will not be accepted if submitted via e-mail or the Internet.

FOR FURTHER INFORMATION CONTACT: Myles Raizin, Fishery Policy Analyst, (978) 281-9104, e-mail at M.A.Raizin@noaa.gov, fax at (978) 281-9135.

SUPPLEMENTARY INFORMATION: Regulations implementing the FMP appear at 50 CFR part 648, subpart K. Regulations governing foreign fishing appear at 50 CFR part 600, subpart F. The FMP requires the New England Fishery Management Council’s (Council) Atlantic Herring Plan Development Team (PDT) to meet at least annually, no later than July each year, with the Atlantic States Marine Fisheries Commission's (Commission) Atlantic Herring Plan Review Team (PRT) to develop and recommend the following specifications for consideration by the Council’s Atlantic Herring Oversight Committee: Allowable biological catch (ABC), optimum yield (OY), domestic annual harvest (DAH), domestic annual processing (DAP), total foreign processing (JVPt), joint venture processing (JVP), internal waters processing (IWP), U.S. at-sea processing (USAP), border transfer (BT), total allowable level of foreign fishing (TALFF), and reserve (if any). The PDT and PRT also recommend the total allowable catch (TAC) for each management area and sub-area identified in the FMP. As the basis for its recommendations, the PDT reviews available data pertaining to: Commercial and recreational catch; current estimates of fishing mortality; stock status; recent estimates of recruitment; virtual population analysis results and other estimates of stock size; sea sampling and trawl survey data or, if sea sampling data are unavailable, length frequency information from trawl surveys; impact of other fisheries on herring mortality; and any other relevant information. Recommended specifications are presented to the Council for adoption and recommendation to NMFS.

Proposed 2001 Specifications

The Council, at its August 2000 meeting, adopted recommendations for the 2001 specifications for the Atlantic herring fishery. Specifications approved for the 2000 fishery were published in the Federal Register on December 11, 2000 (65 FR 77450). In a notification action published in the same edition of the Federal Register, NMFS adjusted the 2000 annual specifications for JVP, IWP, USAP, and the TAC for Areas 1A and 1B. The adjusted specifications are contained in Table 1. Proposed specifications for the 2001 fishery are contained in Table 2. Changes from the 2000 specifications include increases in OY, DAH, TALFF, DAP, and the TAC reserve for Area 2, which are discussed in this preamble.

Table 1. 2000 Atlantic Herring Specifications (adjusted)
Specification | Amount (mt)
ABC | 300,000
OY | 224,000
DAH | 224,000
TALFF | 0
DAP | 180,000
USAP | 20,000
BT | 4,000
JVPt | 20,000
JVP- Area 2 and Area 3 | 10,000
IWP | 10,000
Reserve | 0
TAC -Area 1A | 60,000
TAC- Area 1B | 10,000
TAC- Area 2 | 50,000
| (54,000 TAC reserve)
TAC- Area 3 | 50,000

Table 2. Recommended 2001 Atlantic Herring Specifications
Specification | Amount (mt)
ABC | 300,000
OY | 250,000
DAH | 245,000
TALFF | 5,000
DAP | 221,000
USAP | 20,000
BT | 4,000
JVPt | 20,000
JVP- Area 2 and Area 3 | 10,000
IWP | 10,000
Reserve | 0
TAC- Area 1A | 60,000
TAC- Area 1B | 10,000
TAC - Area 2 | 50,000
| (80, 000 TAC reserve)
TAC- Area 3 | 50,000

TALFF

The Council recommends the specification of 5,000 metric tons (mt) of TALFF for the 2001 fishery, because it concluded that a sufficiently large stock of herring exists in Areas 2 and 3 to allow directed foreign fishing. The Council recommended restricting fishing under a TALFF allocation to these areas. The Council recommended setting TALFF largely to enhance the probability that foreign vessels would engage in JVP, thus benefitting U.S. fishermen who have had difficulty in procuring markets for herring. TALFF would benefit foreign vessels fishing under a joint venture (JV) by ensuring a supply of herring for processing if domestic vessels are not able to supply herring due to bad weather.

The Council met in September 2000 and recommended conditions and restrictions for TALFF. Those recommendations include: A restriction on direct foreign fishing landward of 20 nautical miles from shore; a restriction limiting gear to midwater trawls; a condition that foreign vessels be allowed to harvest 25 percent of their TALFF allocation up front but, before release of additional TALFF, a foreign vessel must receive 25 percent of its JVP allocation or provide proof for why this was not possible; a restriction on direct mealing by the foreign vessel; a restriction on fishing in regulated multispecies closed areas; and a prohibition on foreign fishing in Area 1 (Gulf of Maine). These conditions and restrictions are intended to strictly control any foreign fishing for TALFF to the benefit of the domestic fishery and in conformance with the objectives of the FMP. NMFS would consider these recommendations prior to authorizing TALFF.

TAC Reserve for Area 2

The Council recommended an increase in the TAC reserve for Area 2 of 26,000 mt, which would increase the reserve to 80,000 mt. This results in 130,000 mt of available TAC in Area 2 (50,000 mt of TAC plus 80,000 mt of TAC reserve). It is unlikely that any portion of this reserve will be utilized, since the fishery has never harvested more than the TAC of 50,000 mt from Area 2. The Council’s recommendation for the increase is intended to communicate to the industry that there is a significant opportunity for growth in the fishery without compromising the status of the resource.

ABC, OY, DAH, and DAP

The preferred ABC specification of 300,000 mt (661,200,000 lb) was chosen over an alternative that would have utilized an FTarget yielding over 1 million mt (2204 million lb) of ABC. The conservative approach in setting the ABC takes into account the uncertainty about current stock size, which may be overestimated, and addresses the need to retain stability in the year-to-year estimate of ABC in the event of a sudden shift in the terminal year estimate of biomass. In addition, recognizing that herring is a key forage resource for a number of recreational finfish species such as striped bass and bluefish, and possibly some species of cetaceans, it is critical that allowable catch levels be conservatively set. Harvest of the entire preferred ABC would allow the herring stock to increase although it is close to carrying capacity at present.

Recommended increases in OY, DAH, and DAP are a direct result of recommended increases in TALFF and TAC reserve in Area 2. The TAC reserve increase would increase both the amount harvested by U.S. vessels as DAH and the amount processed by U.S. industry as DAP. The difference between OY and DAH represents the amount recommended for TALFF. OY is recommended at 250,000 mt, well under the ABC of 300,000 mt.

Classification

This proposed rule has been determined to be not significant for purposes of E.O. 12866.

The Council and NMFS prepared an IRFA that describes the economic impact this proposed rule, if adopted, would have on small entities. A summary of the analysis follows:

A description of the reasons why action by the agency is being considered and the objectives of the proposed rule are explained in the preamble to this rule and are not repeated here. This action does not contain any collection-of-information, reporting, or recordkeeping requirements. It will not duplicate, overlap, or conflict with any other Federal rules. This action is taken under authority of the Magnuson-Stevens Act and regulations at 50 CFR part 648.

All of the affected businesses (fishing vessels and dealers) qualify as small entities under the standards described in NMFS guidelines. There were 2,215 vessels, 6 known processors, and 72 known dealers participating in the fishery in 1999. The proposed increase in OY of 26,000 mt would provide additional opportunities for increased harvests. It cannot reasonably be expected to cause a significant increase in catch, however, given that vessels caught less than half the current OY in 1999. Therefore, the proposed increase in OY is not likely to result in any significant impact on the revenues of vessels, producer surplus or consumer surplus. Other alternatives considered and rejected, either “no-action” or increasing the allowable biological catch, would have a similar impact.

If foreign vessels avail themselves of the opportunity to harvest some or all of the TALFF, and those vessels are obligated to engage in JVs with U.S. fishing vessels, there would be a positive impact on the revenues of those U.S. vessels participating. Since the number of vessels that would be involved in the JVs and the specifics of the financial arrangements between the harvesters and foreign processor are not known, the per-vessel revenue impacts cannot be estimated. If the full amount of the JVP (10,000 mt) is harvested, revenues to the participating vessels would approximate $1.2 million, based on an average price of $120/mt. This would represent an increase in overall fleet revenues of 10-12 percent. While this represents a maximum dollar benefit, the net economic benefit would have to take into account opportunity costs in the form of revenues that could have been earned by delivering herring to shoreside processors, assuming that there is coincidental shoreside demand. In comparison, setting TALFF at 0 mt (the “no-action” alternative) would not provide as much incentive for foreign vessels to establish operations in the exclusive economic zone and would likely preclude the utilization of JVP, based on the activity in the fishery during the past 2 years. Alternatively, setting TALFF at a higher level, as considered by the Herring Committee, would have essentially the same economic impact as the proposed action because the economic benefits to the domestic fishery are realized through, and limited by, the utilization of the JVP specification (which is not changed), not the TALFF.

While a higher specification of TALFF may provide a greater incentive to foreign participants, there is no experience on which to base an estimate of this effect. The economic impact to shoreside processors from JVP (enhanced by a specification of TALFF) is uncertain. A reduction in supply to shoreside processors could result in an increase in the cost of herring to shoreside processors or bait dealers. Conversely, if domestic vessels concentrate on increasing supply of herring to shoreside processors, a decrease in cost could occur.

The President has directed Federal agencies to use plain language in their communications with the public, including regulations. To comply with this directive, we seek public comment on any ambiguity or unnecessary complexity arising from the language used in this proposed rule. Such comments should be sent to the Northeast Regional Administrator (see ADDRESSES).

Authority: 16 U.S.C. 1801 et seq.

Dated: February 26, 2001.
William T. Hogarth,
Acting Assistant Administrator for Fisheries, National Marine Fisheries Service.

[FR Doc. 01-5261 Filed 3-2-01; 8:45 am]

BILLING CODE 3510-22-S